DEPARTMENT OF TRANSPORTATION

Federal Aviation Administration

[Policy Statement Number ACE-00-23.777-01]

Proposed Issuance of Policy Memorandum, Automatic Pilot (Control Wheel Steering) Applications for Part 23/CAR 3 Airplanes

AGENCY: Federal Aviation Administration, DOT.

ACTION: Notice of policy statement; extension of the comment period.

SUMMARY: This document provides additional time for the public to comment on a proposal to adopt new policy for certification of normal, utility, acrobatic, and commuter category turbine powered airplanes with automatic pilot (autopilot) (control wheel steering) applications. Comments received on the original notice of policy statement (66 FR 4055, January 17, 2001) specify additional time to respond to the proposed action.

DATE: Comments sent must be received by May 11, 2001. This is extended from February 16, 2001.

ADDRESSES: Send all comments on this proposed policy statement to the individual identified under FOR FURTHER INFORMATION CONTACT.

FOR FURTHER INFORMATION CONTACT: Sending comments: Bill Marshall, Federal Aviation Administration (FAA), Small Airplane Directorate, Regulations and Policy Branch, ACE-111, 901 Locust, Room 301, Kansas City, Missouri 64106; telephone (816) 329-4116; fax (816) 329-4090; email: Bill.Marshall@faa.gov.

Asking technical questions: Jon Hannan, FAA, Small Airplane Directorate, Regulations and Policy Branch, ACE-111, 901 Locust, Room 301, Kansas City, Missouri 64106; telephone (816) 329-4127; fax (816) 329-4090; email: Jon.Hannan@faa.gov.

SUPPLEMENTARY INFORMATION:

Comments Invited

How do I comment on the proposed policy? We invite your comments on this proposed policy statement, ACE-00-23.777-01. You may send whatever written data, views, or arguments you choose. We will consider all comments received by the closing date. We may change the proposals contained in this notice because of the comments received.

Please send comments using the following Internet address: Bill.Marshall@faa.gov. Comments sent using the Internet must contain “Comments to Policy Statement ACE-00-23.777-01” in the subject line. Writers should format in Microsoft Word 97 or ASCII any file attachments that are sent using the Internet.

Send comments using the following format:

• Organize comments issue-by-issue. For example, discuss a comment about the automatic pilot control panel and a comment about primary flight controls as two separate issues.

• For each issue, state what specific change you are requesting to the proposed policy memorandum.

• Include justification (for example, reasons or data) for each request. If sending your comments using the Internet will cause you extreme hardship, you may send comments using the U.S. Mail, overnight delivery, or facsimile machine. You should mark your comments, “Comments to Policy Statement ACE-00-23.777-01” and send two copies to the above address in the section FOR FURTHER INFORMATION CONTACT: Sending comments.”

Issued in Kansas City, Missouri on March 6, 2001.
Michael Gallagher,
Manager, Small Airplane Directorate, Aircraft Certification Service.

[FR Doc. 01-6090 Filed 3-9-01; 8:45 am]

BILLING CODE 4910-13-P